FEDERAL RETIREMENT THRIFT INVESTMENT BOARD

Sunshine Act Notice

Time and Date: 9 a.m. (EDT), October 17, 2005.

Place: 4th Floor Conference Room, 1250 H Street, NW, Washington, DC.

Status: Parts will be open to the public and parts closed to the public.

Matters to Be Considered:

Parts Open to the Public

1. Approval of the minutes of the September 19, 2005, Board member meeting.

2. Thrift Savings Plan activity report by the Executive Director.

3. Quarterly Investment Policy report.

4. Quarterly Vendor Financial Statement report.

5. Old business. Resolution to require Executive Director to consult Board.

6. Mid-year financial audit report from Deloitte & Touche.

Parts Closed to the Public

7. Procurement.

8. Personnel.

Contact person for more information: Thomas J. Trabucco, Director, Office of External Affairs, (202) 942-1640.

Dated: October 6, 2005.
Elizabeth S. Woodruff,
Secretary to the Board, Federal Retirement Thrift Investment Board.

[FR Doc. 05-20482 Filed 10-6-05; 5:02 pm]

BILLING CODE 6760-01-P